DEPARTMENT OF COMMERCE

National Oceanic and Atmospheric Administration

50 CFR Part 660

[Docket No. 241022-0278; RIN 0648-BO01]

Magnuson-Stevens Act Provisions; Fisheries Off West Coast States; Pacific Coast Groundfish Fishery; 2025-2026 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial groundfish fisheries. These inseason adjustments will increase sablefish trip limits in the limited entry fixed gear and open access groundfish fisheries to allow more attainment of sablefish within the sector allocations. This action is intended to allow commercial fishing vessels to access more abundant groundfish stocks while protecting overfished and depleted stocks.

DATES: This final rule is effective July 21, 2025.

ADDRESSES: This final rule is accessible at the Office of the Federal Register website at https://www.federalregister.gov. Background information and documents are available at the Pacific Fishery Management Council's website at http://www.pcouncil.org/.

FOR FURTHER INFORMATION CONTACT: Megan Mackey, Fishery Management Specialist, at 206-526-6140 or megan.mackey@noaa.gov.

SUPPLEMENTARY INFORMATION:

Background

The Pacific Coast Groundfish Fishery Management Plan (PCGFMP) and its implementing regulations at title 50 in the Code of Federal Regulations (CFR), part 660, subparts C through G, regulate fishing for groundfish seaward of Washington, Oregon, and California. Pacific Coast groundfish fisheries are managed using harvest specifications or limits (e.g., overfishing limits (OFL), acceptable biological catch (ABC), annual catch limits (ACL), and harvest guidelines (HG) recommended by the Pacific Fishery Management Council (Council) and based on the best scientific information available at that time (50 CFR 660.60(b)). During development of the harvest specifications, the Council recommends management measures (e.g., trip limits, area closures, and bag limits) that are meant to mitigate catch so as not to exceed the harvest specifications. Based on recommendations from the Council, NMFS develops and implements groundfish harvest specifications and management measures for 2-year periods (i.e., a biennium).

NMFS published the final rule to implement harvest specifications and management measures for the 2025-2026 biennium for most species managed under the PCGFMP on December 16, 2024 (89 FR 101514) (final rule). That final rule was effective January 1, 2025. In general, the management measures set at the start of the biennial harvest specifications cycle help the various sectors of the fishery attain, but not exceed, the annual allocations for each stock. During the fishing year, the Council, in coordination with Pacific Coast Treaty Indian Tribes and the States of Washington, Oregon, and California, recommends adjustments to the management measures to achieve this goal.

A sablefish adjustment is warranted for the 2025 fishing year. The harvest specifications and mitigation measures developed for the 2025-2026 biennium used data through the 2023 fishing year. The adjustments to mitigation measures provided in this inseason action are based on updated information that was unavailable when the analysis for the current harvest specifications was completed. As new fisheries data becomes available, adjustments to mitigation measures are projected so as to help harvesters achieve but not exceed the annual allocations.

Sablefish is an important commercial species on the U.S. West Coast with vessels targeting sablefish with both trawl and fixed gear (including longline and pots/traps). Sablefish is managed with a coast-wide ACL that is apportioned north and south of 36° North latitude (N lat.). The sablefish market has stabilized recently and prices for product have increased in some areas. Considering the high sablefish allocations in 2025, fixed gear representatives for both limited entry fixed gear (LEFG) and open access (OA) sectors on the Council's Groundfish Advisory Panel (GAP) requested that the Council's Groundfish Management Team (GMT) analyze whether trip limit increases could be implemented for the remainder of 2025 to allow for greater opportunity in the fishery to utilize sablefish. At least some vessels in both the LEFG and OA sectors north and south of 36° N lat. have attained more than 90 percent of the Status Quo (SQ) sablefish trip limits on trips taken in 2025, and landings information to-date indicates growing utilization of the trip limits and participation in all four sector-areas compared to recent years. Nonetheless, attainment of the 2025 sablefish allocation for each sector is projected to be low. Under SQ trip limits, LEFG landings north of 36° N lat. for the full year are projected to be only 17-20 percent of the 2025 landings target, while LEFG landings south of 36° N lat. for the full year are projected to be only 9-11 percent of the 2025 landings target. For the OA sector, under SQ trip limits, landings north of 36° N lat. for the full year are projected to be only 19-22 percent of the 2025 landings target, while landings south of 36° N lat. for the full year are projected to be only 0.9 percent of the 2025 landings target. Therefore, the GMT modeled sablefish trip limit increases for all four sector-areas and provided recommendations for precautionary increases, accounting for the uncertainty in impacts to shortspine thornyhead, which has a low allocation due to the most recent stock assessment. For both sectors north of 36° N lat., the GMT modeled an Option 1 that is identical to the next highest option modeled in the 2025-26 harvest specifications analysis. For both sectors south of 36° N lat., the Option 1 trip limits were requested by industry members.

At its June 2025 meeting, the Council reviewed the analytical documents drafted by its GMT and its GAP and recommended inseason adjustments to increase the LEFG and OA sablefish trip limits north and south of 36° N lat. to allow for more attainment of sablefish within the sector allocations.

Option 1 provides a precautionary increase while minimizing the risk of exceeding the shortspine thornyhead non-trawl allocation and annual catch target (ACT) north of 34° 27′ N lat. Given that sablefish attainments are projected to be low, but some vessels would benefit from higher trip limits, the Council recommended the Option 1 trip limit increases for LEFG and OA sablefish north and south of 36° N lat. as shown in table 1.

NMFS is approving and implementing this recommendation through this inseason action.

Table 1—New LEFG and OA Sablefish Trip Limits for North and South of 36° N Lat.
Fishery | Area | New trip limit
LEFG | North of 36° N lat | 5,500 lbs./week not to exceed 11,000 lbs./2 months.
| South of 36° N lat | 3,000 lbs./week.
OA | North of 36° N lat | 4,000 lbs./week not to exceed 8,000 lbs./2 months.
| South of 36° N lat | 2,500 lbs./week not to exceed 7,500 lbs./2 months.

Classification

This final rule makes routine inseason adjustments to groundfish fishery management measures, based on the best scientific information available, consistent with the PCGFMP and its implementing regulations.

This action is taken under the authority of 50 CFR 660.60(c) and is exempt from review under Executive Order 12866.

The aggregate data upon which these actions are based are available for public inspection by contacting Megan Mackey in NMFS West Coast Region (see FOR FURTHER INFORMATION CONTACT section above), or view at the NMFS West Coast Groundfish website: https://www.fisheries.noaa.gov/species/west-coast-groundfish.

Pursuant to 5 U.S.C. 553(b), NMFS finds good cause to waive prior public notice and an opportunity for public comment on this action, as notice and comment would be impracticable and contrary to the public interest. The routine adjustments to management measures in this document modify restrictive trip limits for sablefish while keeping catch within allocations established by the 2025-2026 harvest specifications. No aspect of this action is controversial, and changes of this nature were anticipated in the final rule for the 2025-2026 harvest specifications and management measures, which published on December 16, 2024 (89 FR 101514). Moreover, the sablefish trip limit increases implemented through this action were discussed at the Council's June 2025 meeting, which included an opportunity for public comment.

Delaying implementation to allow for additional public comment would likely reduce the economic benefits of this action to the commercial fishing industry and the businesses that rely on that industry, because it would be unlikely that the new regulations would be implemented in time to realize the projected benefits of the increased trip limits to fishing communities and the resource during the 2025 fishing year. A delay in implementation could also contribute to unnecessarily discarded and largely wasted fish for any fishermen who are attaining the lower trip limit, which could otherwise be landed to provide food and revenue, and responsible use of the resource. Therefore, providing a comment period for this action would likely significantly limit the economic benefits to the fishery, and would hamper the potential to achieve optimum yield from the affected fisheries.

For the same reasons, the NMFS finds good cause to waive the 30-day delay in effectiveness pursuant to 5 U.S.C. 553(d)(1) so that this final rule may become effective upon publication in the Federal Register. The adjustments to management measures in this document would affect commercial fisheries by increasing opportunity and allowing greater economic benefit; thus helping harvesters achieve but not exceed annual allocations. These adjustments were requested by the Council's advisory bodies, as well as members of industry during the Council's June 2025 meeting, and are recommended by the Council, following the opportunity for public comment at the June 2025 meeting. No aspect of this action is controversial, and routine changes of this nature were anticipated in the 2025-2026 biennial harvest specifications and management measures, which were established through a notice and comment rulemaking for (December 16, 2024 (89 FR 101514)).

List of Subjects in 50 CFR Part 660

Fisheries, Fishing, Indian fisheries.

Dated: July 16, 2025.
Kelly Denit,
Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Amend table 2b (North) to part 660, subpart E by revising the entry for “Sablefish” to read as follows:

Table 2b (North) to Part 660, Subpart E—Trip Limits for Limited Entry Fixed Gear North of 40°10′ N Lat.
Species | Trip limit
* * * * * * *
Sablefish | 5,500 lb/week not to exceed 11,000 lb/2 months.
* * * * * * *

3. Amend table 2b (South) to part 660, subpart E by revising the entries for “Sablefish (40°10′ N lat.-36° N lat.)” and “Sablefish (south of 36° N lat.)” to read as follows:

Table 2b (South) to Part 660, Subpart E—Trip Limits for Limited Entry Fixed Gear South of 40°10′ N Lat.
Species | Trip limit
* * * * * * *
Sablefish (40°10′ N lat.-36° N lat.) | 5,500 lb/week not to exceed 11,000 lb/2 months.
Sablefish (south of 36° N lat.) | 3,000 lb/week.
* * * * * * *

4. Amend table 3b (North) to part 660, subpart F by revising the entry for “Sablefish” to read as follows:

Table 3b (North) to Part 660, Subpart F—Trip Limits for Open Access North of 40°10′ N Lat.
Species | Trip limit
* * * * * * *
Sablefish | 4,000 lb/week not to exceed 8,000 lb/2 months.
* * * * * * *

5. Amend table 3b (South) to part 660, subpart F by revising the entries for “Sablefish (40°10′ N lat.-36° N lat.)” and “Sablefish (south of 36° N lat.)” to read as follows:

Table 3b (South) to Part 660, Subpart F—Trip Limits for Open Access South of 40°10′ N Lat.
Species | Trip limit
* * * * * * *
Sablefish (40°10′ N lat.-36° N lat.) | 4,000 lb/week not to exceed 8,000 lb/2 months.
Sablefish (south of 36° N lat.) | 2,500 lb/week not to exceed 7,500 lb/2 months.
* * * * * * *

[FR Doc. 2025-13683 Filed 7-18-25; 8:45 am]

BILLING CODE 3510-22-P